DEPARTMENT OF TRANSPORTATION

Federal Aviation Administration

14 CFR Part 39

[Docket No. 2002-NM-105-AD; Amendment 39-14441; AD 2006-01-02]

RIN 2120-AA64

Airworthiness Directives; McDonnell Douglas Model DC-9-14, DC-9-15, and DC-9-15F Airplanes; Model DC-9-20, DC-9-30, DC-9-40, and DC-9-50 Series Airplanes; Model DC-9-81 (MD-81), DC-9-82 (MD-82), DC-9-83 (MD-83), and DC-9-87 (MD-87) Airplanes; Model MD-88 Airplanes; and Model MD-90-30 Airplanes

AGENCY: Federal Aviation Administration, DOT.

ACTION: Final rule.

SUMMARY: This amendment adopts a new airworthiness directive (AD), applicable to certain McDonnell Douglas transport category airplanes, that requires an inspection of the upper lock link assembly of the nose landing gear (NLG) to determine the manufacturer, repetitive eddy current inspections for cracking, and modification or replacement if necessary. This AD also provides for optional terminating action for the repetitive inspections. The actions specified by this AD are intended to prevent fracture of the upper lock link assembly of the NLG, which could result in failure of the NLG to extend following a gear-down selection, and consequent gear-up landing, structural damage, and possible injury to passengers and crew. This action is intended to address the identified unsafe condition.

DATES: Effective February 22, 2006.

The incorporation by reference of Boeing Alert Service Bulletin DC9-32A340, Revision 01, excluding Appendix A, dated April 29, 2003; and Boeing Alert Service Bulletin MD90-32A054, Revision 01, excluding Appendix A, dated April 29, 2003; as listed in the regulations, is approved by the Director of the Federal Register as of February 22, 2006.

The incorporation by reference of McDonnell Douglas Service Bulletin DC9-32-315, dated March 11, 1999; Boeing Service Bulletin DC9-32-315, Revision 01, dated October 24, 2000; McDonnell Douglas Service Bulletin MD90-32-033, dated March 11, 1999; and Boeing Service Bulletin MD90-32-033, Revision 01, dated October 24, 2000; as listed in the regulations, was approved previously by the Director of the Federal Register as of March 28, 2002 (67 FR 7949, February 21, 2002).

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California.

FOR FURTHER INFORMATION CONTACT: Mike Lee, Aerospace Engineer, Airframe Branch, ANM-120L, FAA, Los Angeles Aircraft Certification Office, 3960 Paramount Boulevard, Lakewood, California 90712-4137; telephone (562) 627-5325; fax (562) 627-5210.

SUPPLEMENTARY INFORMATION: A proposal to amend part 39 of the Federal Aviation Regulations (14 CFR part 39) to include an airworthiness directive (AD) that is applicable to certain DC-9-14, DC-9-15, DC-9-15F, DC-9-21, DC-9-31, DC-9-32, DC-9-32 (VC-9C), DC-9-32F, DC-9-33F, DC-9-34, DC-9-34F, DC-9-32F (C-9A, C-9B), DC-9-41, DC-9-51, DC-9-81 (MD-81), DC-9-82 (MD-82), DC-9-83 (MD-83), and DC-9-87 (MD-87) airplanes; MD-88 airplanes; and MD-90-30 airplanes; was published as a supplemental notice of proposed rulemaking (NPRM) in the Federal Register on June 14, 2005 (70 FR 34411). That action proposed to require an inspection of the upper lock link assembly of the nose landing gear (NLG) to determine the manufacturer, repetitive eddy current inspections for cracking, modification or replacement if necessary, and related concurrent actions. That action also proposed to provide optional terminating action for the repetitive inspections.

Comments

Interested persons have been afforded an opportunity to participate in the making of this amendment. Due consideration has been given to the comments received.

Request To Approve Alternative Methods of Compliance (AMOCs) for AD 2002-04-01 as AMOCs for the Supplemental NPRM

One commenter request that we approve AMOCs approved previously for AD 2002-04-01, amendment 39-12658 (67 FR 7949, February 21, 2002), as AMOCs for the supplemental NPRM. The commenter notes that paragraph (i) of the proposed AD states that the Los Angeles Aircraft Certification Office (ACO), FAA, can approve AMOCs for this AD but does not state whether previously approved AMOCs are applicable to this AD. The commenter notes that it has received an AMOC approval letter for AD 2002-04-01 for an alternate marking method applicable to upper lock links.

We agree with the commenter. AMOCs approved for AD 2002-04-01 are acceptable for compliance as AMOCs for the actions specified in paragraph (f) of the final rule. Therefore, we have added paragraph (i)(3) to the final rule.

Request To List Part Numbers

One commenter requests that we list all affected part numbers as indicated in Figure 1 of Boeing Alert Service Bulletin DC9-32A340, Revision 01, dated April 29, 2003, which was referenced as the appropriate source of service information for doing the actions in the supplemental NPRM for certain airplanes. The commenter did not provide justification for the request.

We do not agree with the commenter. The final rule requires an inspection of the upper lock link assembly in accordance with the applicable service bulletin. Those service bulletins clearly specify the affected part numbers in Figure 1. No further clarification is necessary. Including part numbers in the final rule would unnecessarily lengthen the final rule and add the potential for typographical errors. We have not revised the final rule in this regard.

Request To Revise the Compliance Time

One commenter requests that we revise the compliance time in the supplemental NPRM to be synchronized with the requirements of AD 2002-04-01, which was cited in the supplemental NPRM as the source of certain concurrent requirements. The commenter states that the actions specified in the supplemental NPRM conflict with the compliance time mandated by AD 2002-04-01. The commenter notes that it has inspected 124 units in accordance with Boeing Alert Service Bulletin DC9-32A340 with no evidence of damage. The commenter questions why the supplemental NPRM should have a more stringent compliance threshold that conflicts with the threshold in AD 2002-04-01.

We disagree with the commenter because AD 2002-04-01 and this final rule address different identified unsafe conditions. The compliance time in this final rule corresponds with the manufacturer's recommended compliance times specified in Boeing Alert Service Bulletin DC9-32A340. In developing an appropriate compliance time for this final rule, we considered the urgency associated with the subject unsafe condition, the manufacturer's recommendation, the availability of required parts, and the practical aspect of accomplishing the required actions within a period of time that corresponds to the normal scheduled maintenance for most affected operators. However, according to the provisions of paragraph (i) of the final rule, we may approve requests to adjust the compliance time if the request includes data that prove that the new compliance time would provide an acceptable level of safety. We have not revised the final rule in this regard.

Clarification of Terminating Action

We have revised paragraphs (d) and (e) of this AD to clarify that the terminating action terminates only the inspections specified in paragraphs (b) and (c) of this AD. The parts installation requirement specified in paragraph (h) of this AD remains applicable.

We have also replaced the phrase “with a new or serviceable upper link lock assembly” in paragraph (e)(2) of this AD with “with an upper lock link assembly, part number (P/N) 5965065-511” to clarify the replacement part. Upper link lock assemblies having other P/Ns must be modified as specified in paragraph (e)(1) of this AD in order to be a replacement part.

Clarification of AMOC Paragraph

We have revised this action to clarify the appropriate procedure for notifying the principal inspector before using any approved AMOC on any airplane to which the AMOC applies.

Conclusion

After careful review of the available data, including the comments noted above, the FAA has determined that air safety and the public interest require the adoption of the rule with the changes previously described. The FAA has determined that these changes will neither increase the economic burden on any operator nor increase the scope of the AD.

Cost Impact

There are approximately 2,021 airplanes of the affected design in the worldwide fleet. The FAA estimates that 1,212 airplanes of U.S. registry will be affected by this AD.

It will take approximately 1 work hour per airplane to accomplish the general visual inspection, at an average labor rate of $65 per work hour. Based on these figures, the cost impact of the general visual inspection on U.S. operators is estimated to be $78,780, or $65 per airplane.

It will take approximately 1 work hour per airplane to accomplish the high frequency eddy current (HFEC) inspection, at an average labor rate of $65 per work hour. Based on these figures, the cost impact of the HFEC inspection on U.S. operators is estimated to be $78,780, or $65 per airplane, per inspection cycle.

It would take approximately 8 work hours per airplane to accomplish the replacement, if done, at an average labor rate of $65 per work hour. Required parts cost approximately $6,346 for a new part. Based on these figures, the cost impact of the replacement on U.S. operators is estimated to be $6,866 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2006-01-02 McDonnell Douglas: Amendment 39-14441. Docket 2002-NM-105-AD.

Applicability: This AD applies to airplanes, certificated in any category, as identified in Table 1 of this AD.

Table 1.—Applicability
Model— | As identified in—
DC-9-14, DC-9-15, DC-9-15F, DC-9-21, DC-9-31, DC-9-32, DC-9-32 (VC-9C), DC-9-32F, DC-9-33F, DC-9-34, DC-9-34F, DC-9-32F (C-9A, C-9B), DC-9-41, DC-9-51, DC-9-81 (MD-81), DC-9-82 (MD-82), DC-9-83 (MD-83), and DC-9-87 (MD-87) airplanes; and MD-88 airplanes | Boeing Alert Service Bulletin DC9-32A340, Revision 01, dated April 29, 2003.
MD-90-30 airplanes | Boeing Alert Service Bulletin MD90-32A054, Revision 01, dated April 29, 2003.

Compliance: Required as indicated, unless accomplished previously.

To prevent fracture of the upper lock link assembly of the nose landing gear (NLG), which could result in failure of the NLG to extend following a gear-down selection, and consequent gear-up landing, structural damage, and possible injury to passengers and crew; accomplish the following:

Service Bulletin References

(a) The term “service bulletin,” as used in this AD, means the Accomplishment Instructions of the service bulletin specified in paragraph (a)(1) or (a)(2) of this AD, as applicable. Although the service bulletins referenced in this AD specify to submit information to the manufacturer, this AD does not include such a requirement.

(1) For Model DC-9-14, DC-9-15, DC-9-15F, DC-9-21, DC-9-31, DC-9-32, DC-9-32 (VC-9C), DC-9-32F, DC-9-33F, DC-9-34, DC-9-34F, DC-9-32F (C-9A, C-9B), DC-9-41, DC-9-51, DC-9-81 (MD-81), DC-9-82 (MD-82), DC-9-83 (MD-83), and DC-9-87 (MD-87) airplanes; and MD-88 airplanes: Boeing Alert Service Bulletin DC9-32A340, Revision 01, excluding Appendix A, dated April 29, 2003; and

(2) For Model MD-90-30 airplanes: Boeing Alert Service Bulletin MD90-32A054, Revision 01, excluding Appendix A, dated April 29, 2003.

Inspections

(b) Within 2,500 flight cycles after the effective date of this AD: Do a general visual inspection to determine if the upper lock link assembly of the NLG was manufactured by Ready Machine and Manufacturing Company (this can be identified by the letters “RM” adjacent to the serial number), in accordance with the service bulletin. Instead of the inspection, a review of airplane maintenance records is acceptable if the manufacturer of the upper lock link assembly can be positively determined from that review.

Note 1: For the purposes of this AD, a general visual inspection is: “A visual examination of an interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

(1) If the upper lock link assembly of the NLG was manufactured by Ready Machine and Manufacturing Company: Within 2,500 flight cycles after the effective date of this AD, do a high frequency eddy current (HFEC) inspection of the assembly for cracking, in accordance with Condition 1 of the service bulletin.

(2) If the upper lock link assembly was not manufactured by Ready Machine and Manufacturing Company: Within 3,500 flight cycles after the effective date of this AD, do an HFEC inspection of the assembly for cracking, in accordance with Condition 2 of the service bulletin.

No Cracking Found

(c) If no cracking is found during any HFEC inspection required by paragraph (b) of this AD, repeat the HFEC inspection specified in paragraph (b) of this AD at intervals not to exceed 4,000 flight cycles until accomplishment of either paragraph (e)(1) or (e)(2) of this AD.

Cracking Found

(d) If any cracking is found during any inspection required by paragraph (b) or (c) of this AD, before further flight, do the replacement of the upper lock link assembly as specified in either paragraph (e)(1) or (e)(2) of this AD. Accomplishment of this action constitutes terminating action for the repetitive inspection requirements of paragraph (c) this AD.

Optional Terminating Action

(e) Doing the actions specified in either paragraph (e)(1) or (e)(2) of this AD constitutes terminating action for the inspection requirements of paragraphs (b) and (c) of this AD.

(1) Replace the upper lock link assembly of the NLG with an upper lock link assembly modified in accordance with the service bulletin. The modification includes refinishing an uncracked upper lock link assembly, and doing related investigative and corrective actions, in accordance with the service bulletin.

(2) Replace the cracked upper lock link assembly of the NLG with an upper lock link assembly, part number (P/N) 5965065-511, in accordance with the service bulletin.

Prior or Concurrent Actions Required To Be Done With Paragraph (b) of This AD

(f) Before or concurrently with the actions required by paragraph (b)(1) or (b)(2) of this AD, as applicable, do the actions specified in Table 2 of this AD.

Table 2.—Prior or Concurrent Actions
Do these actions— | Required by— | In accordance with—
Replace the lock link with a new upper lock link, a reidentified upper lock link, or a new upper lock link assemby, and do any applicable inspections | AD 2002-04-01, amendment 39-12658 | McDonnell Douglas Service Bulletin DC9-32-315, dated March 11, 1999, or Boeing Service Bulletin DC9-32-315, Revision 01, dated October 24, 2000; or McDonnell Douglas Service Bulletin MD90-32-033, dated March 11, 1999, or Boeing Service Bulletin MD90-32-033, Revision 01, dated October 24, 2000; as applicable.

Actions Accomplished in Accordance With Previous Issues of Service Bulletins

(g) Actions accomplished before the effective date of this AD in accordance with Boeing Alert Service Bulletin DC9-32A340; and Boeing Alert Service Bulletin MD90-32A054; both dated November 14, 2001; are considered acceptable for compliance with the corresponding actions specified in this AD.

Parts Installation

(h) As of the effective date of this AD, no person may install, on any airplane, any part specified in paragraphs (h)(1) and (h)(2) of this AD, unless it has been modified according to the service bulletin.

(1) Any upper lock link assembly, P/N 5965065-1, 5965065-501, 5965065-503, or 5965065-507.

(2) Any upper lock link, P/N 3914464-1, 3914464-501, 3914464-503, or 3914464-507.

Alternative Methods of Compliance

(i)(1) In accordance with 14 CFR 39.19, the Manager, Los Angeles Aircraft Certification Office, FAA, is authorized to approve alternative methods of compliance for this AD.

(2) Before using any AMOC approved in accordance with 14 CFR 39.19 on any airplane to which the AMOC applies, notify the appropriate principal inspector in the FAA Flight Standards Certificate Holding District Office.

(3) AMOCs approved previously according to AD 2002-04-01, amendment 39-12658, are approved as AMOCs for the corresponding provisions of paragraph (f) of this AD.

Incorporation by Reference

(j) Unless otherwise specified in this AD, the actions must be done in accordance with the applicable service bulletin listed in Table 3 of this AD.

(1) The incorporation by reference of the service bulletins listed in Table 4 of this AD is approved by the Director of the Federal Register, in accordance with 5 U.S.C. 552(a) and 1 CFR part 51.

(2) The incorporation by reference of the service bulletins listed in Table 5 of this AD was approved previously by the Director of the Federal Register as of March 28, 2002 (67 FR 7949, February 21, 2002).

(3) To get copies of this service information, contact Boeing Commercial Airplanes, Long Beach Division, 3855 Lakewood Boulevard, Long Beach, California 90846, Attention: Data and Service Management, Dept. C1-L5A (D800-0024). To inspect copies of this service information, go to the FAA, Transport Airplane Directorate, 1601 Lind Avenue, SW., Renton, Washington; or go to the FAA, Los Angeles Aircraft Certification Office, 3960 Paramount Boulevard, Lakewood, California; or to the National Archives and Records Administration (NARA). For information on the availability of this material at the NARA, call (202) 741-6030, or go to http://www.archives.gov/federal_register/code_of_federal_regulations/ibr_locations.html.

Table 3.—All Material Incorporated by Reference
Service bulletin | Revision level | Date
Boeing Alert Service Bulletin DC9-32A340 | Revision 01 | April 29, 2003.
Boeing Alert Service Bulletin MD90-32A054 | Revision 01 | April 29, 2003.
Boeing Service Bulletin DC9-32-315 | Revision 01 | October 24, 2000.
Boeing Service Bulletin MD90-32-033 | Revision 01 | October 24, 2000.
McDonnell Douglas Service Bulletin DC9-32-315 | Original | March 11, 1999.
McDonnell Douglas Service Bulletin MD90-32-033 | Original | March 11, 1999.

Table 4.—Material Incorporated by Reference In This AD
Service bulletin | Revision level | Date
Boeing Alert Service Bulletin DC9-32A340, excluding Appendix A | Revision 01 | April 29, 2003.
Boeing Alert Service Bulletin MD90-32A054, excluding Appendix A | Revision 01 | April 29, 2003.

Table 5.—Material Previously Incorporated by Reference
Service bulletin | Revision level | Date
Boeing Service Bulletin DC9-32-315 | Revision 01 | October 24, 2000.
Boeing Service Bulletin MD90-32-033 | Revision 01 | October 24, 2000.
McDonnell Douglas Service Bulletin DC9-32-315 | Original | March 11, 1999.
McDonnell Douglas Service Bulletin MD90-32-033 | Original | March 11, 1999.

Effective Date

(k) This amendment becomes effective on February 22, 2006.

Issued in Renton, Washington, on December 20, 2005.
Kalene C. Yanamura,
Acting Manager, Transport Airplane Directorate, Aircraft Certification Service.

[FR Doc. 06-404 Filed 1-17-06; 8:45 am]

BILLING CODE 4910-13-P